DEPARTMENT OF HEALTH AND HUMAN SERVICES

Office of the National Coordinator for Health Information Technology; American Health Information Community Meeting

ACTION: Announcement of meeting.

SUMMARY: This notice announces the 16th meeting of the American Health Information Community in accordance with the Federal Advisory Committee Act (Pub. L. No. 92-463, 5 U.S.C., App.) The American Health Information Community will advise the Secretary and recommend specific actions to achieve a common interoperability framework for health information technology (IT).

DATES: September 18, 2007, from 8:30 a.m. to 2 p.m. (EDT).

ADDRESSES: Hubert H. Humphrey Building (200 Independence Avenue, SW., Washington, DC 20201), Conference Room 800.

FOR FURTHER INFORMATION: Visit http://www.hhs.gov/healthit./ahic.html.

SUPPLEMENTARY INFORMATION: The meeting will include a presentation by the Population Health/Clinical Care Connections Workgroup on Recommendations; an update on the Nationwide Health Information Network Trial Implementation; a presentation from the State Alliance/National Governors Association; and a report from the AHIC Standing Committee of the Whole on the AHIC Successor.

A Web cast of the Community meeting will be available on the NIH Web site at: http://www.videocast.nih.gov/.

If you have special needs for the meeting, please contact (202) 690-7151.

Dated: August 15, 2007.
Judith Sparrow,
Director, American Health Information Community, Office of Programs and Coordination, Office of the National Coordinator for Health Information Technology.

[FR Doc. 07-4085 Filed 8-20-07; 8:45 am]

BILLING CODE 4150-24-M